DEPARTMENT OF VETERANS AFFAIRS

[OMB Control No. 2900-0523]

Agency Information Collection Activity: Loan Analysis

AGENCY: Loan Guaranty Service, Department of Veterans Affairs.

ACTION: Notice.

SUMMARY: In compliance with the Paperwork Reduction Act (PRA) of 1995, this notice announces that the Loan Guaranty Service, Department of Veterans Affairs, will submit the collection of information abstracted below to the Office of Management and Budget (OMB) for review and comment. The PRA submission describes the nature of the information collection and its expected cost and burden and it includes the actual data collection instrument.

DATES: Comments must be submitted on or before June 24, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0523” in any correspondence.

FOR FURTHER INFORMATION CONTACT: Danny S. Green, Enterprise Records Service (005R1B), Department of Veterans Affairs, 811 Vermont Avenue NW, Washington, DC 20420, (202) 421-1354, or email Danny.Green2@va.gov. Please refer to “OMB Control No. 2900-0523” in any correspondence.

SUPPLEMENTARY INFORMATION:

Authority: 44 U.S.C. 3501-21.

Title: Loan Analysis, VA form 26-6393.

OMB Control Number: 2900-0523.

Type of Review: Extension without change of a currently approved collection.

Abstract: The form will be completed by employees of lending institutions partially from information contained on other documents in the loan file. In addition, some items will be completed on the basis of mathematical calculations and underwriting judgement resulting from interpretation of VA credit standards (38 CFR 36.4337). VA employees will also be able to extract data from the completed form in order to expand the amount of information contained in VA's data bases; i.e., income and indebtedness amounts for veteran-borrowers.

An agency may not conduct or sponsor, and a person is not required to respond to a collection of information unless it displays a currently valid OMB control number. The Federal Register Notice with a 60-day comment period soliciting comments on this collection of information was published at 84 FR 8153 on March 6, 2019 on page 8153.

Affected Public: Individuals and households.

Estimated Annual Burden: 125,000 hours.

Estimated Average Burden per Respondent: 30 minutes.

Frequency of Response: One-time.

Estimated Number of Respondents: 250,000.

By direction of the Secretary.
Danny Green,
VA Interim Clearance Officer, Office of Quality, Performance, Privacy and Risk (OQPR), Department of Veterans Affairs.

[FR Doc. 2019-10942 Filed 5-23-19; 8:45 am]

BILLING CODE 8320-01-P